DEPARTMENT OF HOMELAND SECURITY

8 CFR Chapter I

[DHS Docket No. ICEB-2017-0001]

RIN 1653-AA67

Ratification of Department Action

AGENCY: Department of Homeland Security (DHS).

ACTION: Ratification.

SUMMARY: The Department of Homeland Security is publishing notification of the Secretary of Homeland Security's ratification of a rule.

DATES: The ratification was signed on April 15, 2021 and relates back to the original date of the action that it ratifies.

FOR FURTHER INFORMATION CONTACT: Leo (Chip) Boucher, Assistant General Counsel, Administrative Law, Office of the General Counsel, Department of Homeland Security, Washington, DC 20528, (202) 282-9822.

SUPPLEMENTARY INFORMATION: On April 15, 2021, the Secretary of Homeland Security ratified a final rule entitled, Procedures and Standards for Declining Surety Immigration Bonds and Administrative Appeal Requirement for Breaches. See 85 FR 45968 (July 31, 2020). The Department is now publishing the ratification in the Federal Register out of an abundance of caution. Neither the ratification nor the publication is a statement that the ratified action would be invalid absent the ratification, whether published or otherwise.

Signed:
Adam Hunter,
Deputy Assistant Secretary for Immigration Policy, U.S. Department of Homeland Security.

Appendix

[FR Doc. 2021-16331 Filed 7-29-21; 8:45 am]

BILLING CODE 9112-FP-P